DEPARTMENT OF AGRICULTURE

Forest Service

Lake County Resource Advisory Committee (RAC)

AGENCY: Forest Service, USDA.

ACTION: Notice of meeting.

SUMMARY: The Lake County Resource Advisory Committee (RAC) will hold its second meeting.

DATES: The meeting will be held on February 28, 2002, from 3 P.M. to 6 P.M.

ADDRESSES: The meeting will be held at the Lake County Board of Supervisor's Chambers at 255 North Forbes Street, Lakeport.

FOR FURTHER INFORMATION CONTACT: Debbie McIntosh, Committee Coordinator, USDA, Mendocino National Forest, Upper Lake Ranger District, 10025 Elk Mountain Road, Upper Lake, CA 95485, (707) 275-2361; EMAIL dmcintosh@fs.fed.us.

SUPPLEMENTARY INFORMATION: Agenda items to be covered include: (1) Review and approval of the minutes of the January meeting: (2) Title II and Title III dollars—County input; (3) Evaluation Criteria; (4) Project Proposals/Ideas; and (5) Public Comment. The meeting is open to the public. Public input opportunity will be provided and individuals will have the opportunity to address the Committee at that time.

Dated: February 4, 2002.
Blaine P. Baker,
Designated Federal Officer.

[FR Doc. 02-3487 Filed 2-12-02; 8:45 am]

BILLING CODE 3410-11-M